DEPARTMENT OF COMMERCE

National Oceanic and Atmospheric Administration

50 CFR Part 226

[Docket No. 09022432-91321-03]

RIN 0648-XT72

Endangered and Threatened Species; Notice of Public Hearings on Proposed Critical Habitat Designation for the Cook Inlet Beluga Whales

AGENCY: National Marine Fisheries Service (NMFS), National Oceanic and Atmospheric Administration (NOAA), Commerce.

ACTION: Notice of public hearings.

SUMMARY: On December 2, 2009, NMFS published a proposal to designate critical habitat for the endangered Cook Inlet beluga whale as required by the Endangered Species Act of 1973 (ESA), as amended. As part of that proposal, NMFS announced a public comment period to end on February 1, 2010, which was extended to March 3, 2010. NMFS has received requests for public hearings on this issue. In response, NMFS is announcing that hearings will be held at four locations in Alaska to provide additional opportunities and formats to receive public input.

DATES: Written comments must be received by March 3, 2010.

ADDRESSES: Send comments to Kaja Brix, Assistant Regional Administrator, Protected Resources Division, Alaska Region, NMFS, Attn: Ellen Sebastian. You may submit comments, identified by “RIN 0648-XT72”, by any one of the following methods:

• Electronic Submissions: Submit all electronic public comments via the Federal eRulemaking Portal website at http://www.regulations.gov

• Mail: P.O. Box 21668, Juneau, AK 99802

• Fax: 907-586-7557

• Hand delivery to the Federal Building: 709 West 9th Street, Room 420A, Juneau, AK.

No comments will be posted for public viewing until after the comment period has closed. All comments received are part of the public record and will be generally posted to http://www.regulations.gov without change. All personal identifying information (e.g., name, address) voluntarily submitted by the commenter may be publicly accessible. Do not submit confidential business information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Mandy Migura, NMFS, 222 West 7th Avenue, Box 43, Anchorage, AK 99517, (907) 271-5006; Kaja Brix, NMFS, (907) 586-7235; or Marta Nammack, (301) 713-1401.

SUPPLEMENTARY INFORMATION:

Background

Section 4(a)(3) of the ESA requires NMFS to designate critical habitat for threatened and endangered species. NMFS published an advanced notice of proposed rulemaking and a request for information on April 14, 2009 (74 FR 17131). On December 2, 2009, NMFS published a proposed rule to designate critical habitat for the endangered Cook Inlet beluga whale (74 FR 63080). On January 12, 2010, NMFS extended the public comment period to March 3, 2010 (75 FR 1852).

Public Hearings

Joint Commerce-Interior ESA implementing regulations state that the Secretary of Commerce shall promptly hold at least one public hearing if any person requests one within 45 days of publication of a proposed regulation to list a species or to designate critical habitat (see 50 CFR 424.16(c)(3)). In past ESA rulemakings, NMFS has conducted traditional public hearings, consisting of recorded oral testimony from interested individuals. This format, although providing a means of public input, does not provide opportunities for dialogue and information exchange. NMFS believes that the traditional public hearing format can be improved upon by also including a brief presentation on what may be considered topics of interest.

The preferred means for providing public comment to the official record is via written testimony prepared in advance of the meeting, which may also be presented orally. Blank “comment sheets” will be provided at the meetings for those without prepared written comments, and opportunity will also be provided for additional oral testimony. There is no need to register for these hearings.

In scheduling these public hearings, NMFS has anticipated that many affected stakeholders and members of the public may prefer to discuss the proposed critical habitat designation directly with staff during the public comment period. These public meetings are not the only opportunity for the public to provide input on this proposal. The public and stakeholders are encouraged to continue to comment and provide input to NMFS on the proposal (via correspondence, e-mail, and the Internet; see ADDRESSES, above) up until the scheduled close of the comment period on March 3, 2010.

Hearing Dates & Locations

Public hearings will be held in Anchorage, Wasilla, Soldotna, and Homer, Alaska. The specific dates and locations of these meetings are listed below:

(1) Soldotna: February 3, 2010, between 6 p.m. and 9 p.m. at the Kenai Peninsula Borough Assembly Chambers, George A. Navarre Kenai Peninsula Borough Administration Building, 144 N. Binkley Street, Soldotna, AK.

(2) Homer: February 4, 2010, between 6 p.m. and 9 p.m. at the Alaska Islands & Ocean Visitor Center, 95 Sterling Highway #1, Homer, AK.

(3) Wasilla: February 11 between 6 p.m. and 9 p.m. at the Best Western, Lake Lucille Inn, Iditarod Room, 1300 West Lake Lucille Drive, Wasilla, AK.

(4) Anchorage: February 12 between 6 p.m. and 9 p.m. in the Loussac Public Library, Wilda Marston Room, 3600 Denali Street, Anchorage, AK.

References

The proposed rule, economic analysis, maps, status reviews, and other materials relating to the proposed critical habitat designation can be found on the NMFS Alaska Region website www.alaskafisheries.noaa.gov/.

Authority: 16 U.S.C. 1533

Dated: January 13, 2010.
James H. Lecky,
Director, Office of Protected Resources, National Marine Fisheries Service.

[FR Doc. 2010-997 Filed 1-19-10; 8:45 am]

BILLING CODE 3510-22-S